DEPARTMENT OF COMMERCE

National Oceanic and Atmospheric Administration

RIN 0648-XE70

Marine Mammals; File No. 10091

AGENCY: National Marine Fisheries Service (NMFS), National Oceanic and Atmospheric Administration (NOAA), Commerce.

ACTION: Notice; issuance of permit.

SUMMARY: Notice is hereby given that Alaska Department of Fish and Game, 1255 West 8th Street, Juneau, AK, 99811 (Doug Larsen, Responsible Party) has been issued a permit to collect, receive, import/export, and conduct scientific research on marine mammal specimens.

ADDRESSES: The permit and related documents are available for review upon written request or by appointment in the following office(s):

Permits, Conservation and Education Division, Office of Protected Resources, NMFS, 1315 East-West Highway, Room 13705, Silver Spring, MD 20910; phone (301)713-2289; fax (301)427-2521; and

Alaska Region, NMFS, P.O. Box 21668, Juneau, AK 99802-1668; phone (907)586-7221; fax (907)586-7249.

FOR FURTHER INFORMATION CONTACT: Amy Sloan or Jennifer Skidmore, (301)713-2289.

SUPPLEMENTARY INFORMATION: On December 31, 2007, notice was published in the Federal Register (72 FR 74274) that a request for a scientific research permit had been submitted by the above-named organization. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The applicant is authorized to collect, receive, possess, import, and export marine mammal biological specimens (hard and soft parts) from pinnipeds (excluding walrus) and cetaceans to obtain information on population status and distribution, stock structure, age distribution, mortality rates, productivity, feeding habits, and health that can be used for conservation and management purposes. Specimens may be imported and exported world-wide. The duration of the permit is five years.

In compliance with the National Environmental Policy Act of 1969 (42 U.S.C. 4321 et seq.), a final determination has been made that the activity proposed is categorically excluded from the requirement to prepare an environmental assessment or environmental impact statement.

Issuance of this permit, as required by the ESA, was based on a finding that such permit: (1) was applied for in good faith; (2) will not operate to the disadvantage of such endangered species; and (3) is consistent with the purposes and policies set forth in section 2 of the ESA.

Dated: April 16, 2008.
P. Michael Payne,
Chief, Permits, Conservation and Education Division, Office of Protected Resources, National Marine Fisheries Service.

[FR Doc. E8-8686 Filed 4-21-08; 8:45 am]

BILLING CODE 3510-22-S